DEPARTMENT OF TRANSPORTATION

Federal Aviation Administration

14 CFR Part 39

[Docket No. FAA-2023-0426; Project Identifier MCAI-2022-01324-A; Amendment 39-22451; AD 2023-11-05]

RIN 2120-AA64

Airworthiness Directives; Pilatus Aircraft Ltd. Airplanes

AGENCY: Federal Aviation Administration (FAA), DOT.

ACTION: Final rule.

SUMMARY: The FAA is superseding Airworthiness Directive (AD) 2021-10-28, which applied to all Pilatus Aircraft Ltd. (Pilatus) Model PC-24 airplanes. AD 2021-10-28 required incorporating new revisions to the airworthiness limitations section (ALS) of the existing airplane maintenance manual (AMM) or Instructions for Continued Airworthiness (ICA) to incorporate new or more restrictive airworthiness limitations. Since the FAA issued AD 2021-10-28, the FAA determined that new or more restrictive airworthiness limitations are necessary. This AD requires revising the ALS of the existing AMM or ICA for your airplane, as specified in a European Union Aviation Safety Agency (EASA) AD, which is incorporated by reference (IBR). The FAA is issuing this AD to address the unsafe condition on these products.

DATES: This AD is effective July 18, 2023.

The Director of the Federal Register approved the incorporation by reference of a certain publication listed in this AD as of July 18, 2023.

ADDRESSES:

AD Docket: You may examine the AD docket at regulations.gov under Docket No. FAA-2023-0426; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For EASA material that is incorporated by reference in this final rule, contact EASA, Konrad-Adenauer-Ufer 3, 50668 Cologne, Germany; phone: +49 221 8999 000; email: ADs@easa.europa.eu; website easa.europa.eu. You may find the EASA material on the EASA website at ad.easa.europa.eu.

• You may view this service information at the FAA, Airworthiness Products Section, Operational Safety Branch, 901 Locust, Kansas City, MO 64106. For information on the availability of this material at the FAA, call (817) 222-5110. It is also available at regulations.gov under Docket No. FAA-2023-0426.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Background

The FAA issued a notice of proposed rulemaking (NPRM) to amend 14 CFR part 39 to supersede AD 2021-10-28, Amendment 39-21561 (86 FR 30763, June 10, 2021) (AD 2021-10-28). AD 2021-10-28 applied to all Pilatus Model PC-24 airplanes. AD 2021-10-28 required incorporating new revisions to the ALS of the existing AMM or ICA to incorporate new tasks for the control column sprocket gear assembly and control wheel column assembly, to address the new limit of validity and update the usage assumptions and conditions for operations on unpaved and grass runways, and to correct an error in the horizontal stabilizer primary trim system secondary power source operational test. The FAA issued AD 2021-10-28 to prevent reduction in the structural integrity of the airframe and components, as well as an unrecognized failure of the manual pitch trim, which could lead to loss of control of the airplane.

The NPRM published in the Federal Register on March 8, 2023 (88 FR 14306). The NPRM was prompted by EASA AD 2022-0207, dated October 10, 2022 (EASA AD 2022-0207) (referred to after this as the MCAI), issued by EASA, which is the Technical Agent for the Member States of the European Union. The MCAI states new or more restrictive tasks and limitations have been developed. These new or more restrictive airworthiness limitations include introducing new Certification Maintenance Requirement (CMR) Task AL-24-60-004, Emergency Power Contactor 2, by converting the existing Scheduled Maintenance Task SM-24-60-0004, Emergency Contactor 2 Test (EC2 Test) into that CMR task.

You may examine the MCAI in the AD docket at regulations.gov under Docket No. FAA-2023-0426.

In the NPRM, the FAA proposed to require revising the ALS of the existing AMM or ICA for your airplane, as specified in EASA AD 2022-0207. The FAA is issuing this AD to address failure of certain parts, which could result in loss of control of the airplane. Additionally, the actions required to address the unsafe condition in AD 2021-10-28 are included in “the applicable ALS,” as defined in EASA AD 2022-0207.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Related Service Information Under 1 CFR Part 51

EASA AD 2022-0207 requires certain actions and associated thresholds and intervals, including life limits and maintenance tasks.

This material is reasonably available because the interested parties have access to it through their normal course of business or by the means identified in ADDRESSES.

Differences Between This AD and EASA AD 2022-0207

Paragraph (2) of EASA AD 2022-0207 requires corrective action in accordance with the applicable Pilatus maintenance documentation or contacting Pilatus for approved instructions and accomplishing those instructions accordingly. Paragraph (3) of EASA AD 2022-0207 requires revising the approved aircraft maintenance program. Paragraph (4) of EASA AD 2022-0207 provides credit for performing actions in accordance with previous revisions of the Pilatus AMM. Paragraph (5) of EASA AD 2022-0207 explains that after revision of the approved aircraft maintenance program, it is not necessary to record accomplishment of individual actions for demonstration of AD compliance. This AD does not require compliance with paragraphs (2) through (5) of EASA AD 2022-0207.

Costs of Compliance

The FAA estimates that this AD affects 73 airplanes of U.S. registry. Labor rates are estimated at $85 per work-hour. Based on these figures, the FAA estimates that revising the ALS of the existing AMM or ICA for your airplane requires about 1 work-hour for an estimated cost on U.S. operators of $6,205 or $85 per airplane.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-10-28, Amendment 39-21561 (86 FR 30763, June 10, 2021); and

b. Adding the following new airworthiness directive:

2023-11-05 Pilatus Aircraft Ltd.: Amendment 39-22451; Docket No. FAA-2023-0426; Project Identifier MCAI-2022-01324-A.

(a) Effective Date

This airworthiness directive (AD) is effective July 18, 2023.

(b) Affected ADs

This AD replaces AD 2021-10-28, Amendment 39-21561 (86 FR 30763, June 10, 2021) (AD 2021-10-28).

(c) Applicability

This AD applies to Pilatus Aircraft Ltd. Model PC-24 airplanes, all serial numbers, certificated in any category.

(d) Subject

Joint Aircraft System Component (JASC) Code 2460, DC Power/Distribution System.

(e) Unsafe Condition

This AD was prompted by mandatory continuing airworthiness information (MCAI) originated by an aviation authority of another country to identify and correct an unsafe condition on an aviation product. The MCAI states that failure to revise the airworthiness limitations section (ALS) of the existing aircraft maintenance manual (AMM) by introducing new or more restrictive tasks and limitations, which introduces a new certification maintenance requirement (CMR) task to test emergency power contactor 2, could result in an unsafe condition. The FAA is issuing this AD to address failure of certain parts, which could result in loss of control of the airplane.

(f) Compliance

Comply with this AD within the compliance times specified, unless already done.

(g) Required Actions

(1) Before further flight after the effective date of this AD, revise the ALS of the existing AMM or Instructions for Continued Airworthiness for your airplane by incorporating the requirements specified in paragraph (1) of European Union Aviation Safety Agency AD 2022-0207, dated October 10, 2022 (EASA AD 2022-0207).

(2) The actions required by paragraph (g)(1) of this AD may be performed by the owner/operator (pilot) holding at least a private pilot certificate and must be entered into the aircraft records showing compliance with this AD in accordance with §§ 43.9(a) and 91.417(a)(2)(v). The record must be maintained as required by § 91.417, 121.380, or 135.439.

(h) Provisions for Alternative Requirements (Airworthiness Limitations)

After the actions required by paragraph (g) of this AD have been done, no alternative requirements (airworthiness limitations) are allowed unless they are approved as specified in the provisions of the “Ref. Publications” section of EASA AD 2022-0207.

(i) Alternative Methods of Compliance (AMOCs)

(1) The Manager, International Validation Branch, FAA, has the authority to approve AMOCs for this AD, if requested using the procedures found in § 39.19. In accordance with § 39.19, send your request to your principal inspector or local Flight Standards District Office, as appropriate. If sending information directly to the International Validation Branch, send it to the attention of the person identified in paragraph (j) of this AD or email to: 9-AVS-AIR-730-AMOC@faa.gov. If mailing information, also submit information by email. Before using any approved AMOC, notify your appropriate principal inspector, or lacking a principal inspector, the manager of the responsible Flight Standards Office.

(2) Global AMOC AIR-730-22-248, dated July 12, 2022, was approved as an AMOC for the requirements of AD 2021-10-28, and is approved as an AMOC for the requirements of paragraph (g) of this AD. Other AMOCs previously issued for the requirements of AD 2021-10-28 are not approved as an AMOC for the requirements of this AD.

(j) Additional Information

For more information about this AD, contact Doug Rudolph, Aviation Safety Engineer, FAA, 1600 Stewart Avenue, Suite 410, Westbury, NY 11590; phone: (816) 329-4059; email: doug.rudolph@faa.gov

(k) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency AD 2022-0207, dated October 10, 2022.

(ii) [Reserved]

(3) For EASA AD 2022-0207, contact EASA, Konrad-Adenauer-Ufer 3, 50668 Cologne, Germany; phone: +49 221 8999 000; email: ADs@easa.europa.eu; website easa.europa.eu. You may find this EASA AD on the EASA website at ad.easa.europa.eu.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on June 2, 2023.
Michael Linegang,
Acting Director, Compliance & Airworthiness Division, Aircraft Certification Service.

[FR Doc. 2023-12491 Filed 6-12-23; 8:45 am]

BILLING CODE 4910-13-P